ENVIRONMENTAL PROTECTION AGENCY

[EPA-HQ-OECA-2013-0321; FRL-10009-00-OMS]

Information Collection Request Submitted to OMB for Review and Approval; Comment Request; NSPS for Sewage Sludge Incineration Units (Renewal)

AGENCY: Environmental Protection Agency (EPA).

ACTION: Notice.

SUMMARY: The Environmental Protection Agency has submitted an information collection request (ICR), NSPS for Sewage Sludge Incineration Units (EPA ICR Number 2369.05, OMB Control Number 2060-0658), to the Office of Management and Budget (OMB) for review and approval in accordance with the Paperwork Reduction Act. This is a proposed extension of the ICR, which is currently approved through June 30, 2020. Public comments were previously requested via the Federal Register on May 6, 2019 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before May 29, 2020.

ADDRESSES: Submit your comments, referencing Docket ID Number EPA-HQ-OECA-2013-0321, to: (1) EPA online using www.regulations.gov (our preferred method), or by email to docket.oeca@epa.gov, or by mail to: EPA Docket Center, Environmental Protection Agency, Mail Code 28221T, 1200 Pennsylvania Ave. NW, Washington, DC 20460. EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, EPA West, Room 3334, 1301 Constitution Ave. NW, Washington, DC. The telephone number for the Docket Center is 202-566-1744. For additional information about EPA's public docket, visit: http://www.epa.gov/dockets.

Abstract: The New Source Performance Standards (NSPS) for Sewage Sludge Incineration Units (40 CFR part 60, subpart LLLL) were proposed on October 14, 2010, and promulgated on March 21, 2011. These regulations apply to new and existing facilities with one or more sewage sludge incineration (SSI) units. New facilities are those that commenced construction after October 14, 2010 or commenced modification after September 21, 2011. Physical or operational changes made to the SSI unit to comply with the SSI Emission Guidelines at 40 CFR part 60, subpart MMMM do not qualify as a modification under this NSPS. This information is being collected to assure compliance with 40 CFR part 60, subpart LLLL.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Owners or operators of sewage sludge incineration units.

Respondent's obligation to respond: Mandatory (40 CFR part 60, subpart LLLL).

Estimated number of respondents: 8 (total).

Frequency of response: Occasionally, semiannually, and annually.

Total estimated burden: 1,560 hours (per year). Burden is defined at 5 CFR 1320.3(b).

Total estimated cost: $1,070,000 (per year), which includes $998,000 in annualized capital/startup and/or operation & maintenance costs.

Changes in the Estimates: There is an increase in burden from the most recently-approved ICR as currently identified in the OMB Inventory of Approved Burdens due to an increase in the number of respondents subject to the rule. While the per respondent costs of annual performance testing and CEMS/CPMS monitoring have remained the same, but the total O&M costs have increased from the previous ICR renewal due to the increase in the number of existing respondents complying with the requirements of the rule.

Several revisions were made to the calculation of respondent burden. The labor burden for facilities to familiarize with regulation requirements was revised from 40 hours per existing source per year to 40 hours for a new source and 4 hours for an existing source. This change more accurately reflects the burden that new and existing sources require to familiarize and re-familiarize with the rule. The Number of Respondents that will complete the annual refresher course was revised from 1 to 7 to reflect that this is an annual requirement for operators at existing sources, per 40 CFR 60.4825.

Courtney Kerwin,
Director, Regulatory Support Division.

[FR Doc. 2020-09024 Filed 4-28-20; 8:45 am]

BILLING CODE 6560-50-P